DEPARTMENT OF HOUSING AND URBAN DEVELOPMENT

[Docket No. FR-5231-N-01]

Multifamily Mortgage Insurance Premiums (MIPs) and Credit Subsidy Obligations for Fiscal Year (FY) 2009

AGENCY: Office of the Assistant Secretary for Housing—Federal Housing Commissioner, HUD.

ACTION: Notice.

SUMMARY: This notice announces the mortgage insurance premiums (MIPs) for Federal Housing Administration (FHA) multifamily mortgage insurance programs that have commitments to be issued or reissued in Fiscal Year (FY) 2009. The FY2009 MIPs are the same as in FY2008. This annual notice includes for the first time two additional MIPs for the hospital mortgage insurance programs: (1) Supplemental loans for hospitals; and (2) refinancing for existing FHA-insured hospitals. These are not new MIPs and the amounts charged for them will be the same as in previous years.

In addition to announcing MIPs for FY2009, this notice announces that credit subsidy obligations are required for firm commitments issued or reissued for FHA's three positive credit subsidy programs: (1) Section 221(d)(3) New Construction/Substantial Rehabilitation for Nonprofit/Cooperatives; (2) Section 241(a) Supplemental Loans for apartments only; and (3) Section 223(d) Operating Loss Loans. These obligations are not new for FY2009.

DATES: Effective Date: October 1, 2008.

FOR FURTHER INFORMATION CONTACT: Eric Stevenson, Deputy Director, Policy Division, Office of Multifamily Development, Department of Housing and Urban Development, 451 Seventh Street, SW., Washington, DC 20410-8000; telephone: 202-708-1142 (this is not a toll-free number). Hearing- or speech-impaired individuals may access these numbers through TTY by calling the Federal Information Relay Service at 800-877-8339 (this is a toll-free number).

SUPPLEMENTARY INFORMATION:

I. Background

HUD's multifamily housing mortgage insurance regulation at 24 CFR 207.254 provides as follows:

Notice of future premium changes will be published in the Federal Register. The Department will propose MIP changes for multifamily mortgage insurance programs and provide a 30-day public comment period for the purpose of accepting comments on whether the proposed changes are appropriate.

Under this regulation, HUD is required to publish a notice for public comment only when there are premium “changes.” Since HUD is not seeking to implement any premium changes for FY2009 for the multifamily mortgage insurance programs listed in this notice, a notice and public comment is not required. HUD is merely providing this notice to ensure that there is clarity as to the multifamily insured housing MIPs for FY2009, and is not seeking public comments.

II. Low-Income Housing Tax Credits

MIP rates for many multifamily FHA mortgage programs depend on whether or not the sponsor is combining low-income housing tax credits with the FHA-insured loan. Under the Department of Housing and Urban Development Reform Act of 1989 (Pub. L. 101-235, approved December 15, 1989), and HUD's implementing instructions, a sponsor is required to submit a certification regarding governmental assistance, including any low-income housing tax credits, with mortgage insurance applications.

III. MIPs for Multifamily Programs for FY 2009

This notice announces the MIPs that will be in effect during FY2009 for the multifamily housing programs listed in this notice and for FHA's hospital mortgage insurance program authorized under section 242 of the National Housing Act, 12 U.S.C. 1715z-7. Section 241(a) Supplemental Loans and Section 223(a)(7) Refinancing of existing FHA-insured mortgages under Section 242 Hospital Program, which is overseen by FHA's Office of Insured Health Care Facilities, have been added for the first time to the MIP table in this annual notice. No changes in the basis points charged on multifamily loan and hospital programs are proposed for FY2009. The effective date for these mortgage insurance premiums is October 1, 2008.

Credit Subsidy

This notice also announces that a credit subsidy obligation continues to be required for the three sections of the National Housing Act listed below. However, if the mortgagor's equity is produced from low-income housing tax credits (LIHTC) for Sections 221(d)(3) or 241(a), a credit subsidy obligation will not be required. For the loans requiring a credit subsidy obligation, the program office inserts a special clause into the firm commitment or an invitation pertaining to a Site Appraisal and Market Analysis (SAMA)/Feasibility/Multifamily Accelerated Processing (MAP) letter. The clause states that the firm commitment is contingent upon availability of funds.

• Section 221(d)(3) New Construction/Substantial Rehabilitation for Nonprofit/Cooperatives.

• Section 223(d) Operating Loss Loans for both apartments and health care facilities.

• Section 241(a) Supplemental Loans for additions or improvements for apartments only.

The mortgage insurance premiums to be in effect for FHA firm commitments issued or reissued in FY2009 are shown in the table below:

Fiscal Year 2009 MIP Rates
[Multifamily Loans and Hospital Programs]
| Basis points
FHA Apartments
207 Multifamily Housing New Construction/Sub Rehab without LIHTC | 50
207 Multifamily Housing New Construction/Sub Rehab with LIHTC | 45
207 Manufactured Home Parks without LIHTC | 50
207 Manufactured Home Parks with LIHTC | 45
221(d)(3) New Construction/Substantial Rehabilitation (NC/SR) for Nonprofit/Cooperative Mortgagor without LIHTC | 80
221(d)(3) Limited dividend with LIHTC | 45
221(d)(4) NC/SR without LIHTC | 45
221(d)(4) NC/SR with LIHTC | 45
220 Urban Renewal Housing without LIHTC | 50
220 Urban Renewal Housing with LIHTC | 45
213 Cooperative | 50
207/223(f) Refinance or Purchase for Apartments without LIHTC | *45
207/223(f) Refinance or Purchase for Apartments with LIHTC | *45
223(a)(7) Refinance of Apartments without LIHTC | 45
223(a)(7) Refinance of Apartments with LIHTC | 45
223d Operating Loss Loan for Apartments | 80
241(a) Supplemental Loans for Apartments/coop without LIHTC | 80
241(a) Supplemental Loans for Apartments/coop with LIHTC | 45
FHA Health Care Facilities
232 NC/SR Health Care Facilities without LIHTC | 57
232 NC/SR—Assisted Living Facilities with LIHTC | 45
231 Elderly Housing without LIHTC | 50
231 Elderly Housing with LIHTC | 45
232/223(f) Refinance for Health Care Facilities without LIHTC | *50
232/223(f) Refinance for Health Care Facilities with LIHTC | *45
223(a)(7) Refinance of Health Care Facilities without LIHTC | 50
223(a)(7) Refinance of Health Care Facilities with LIHTC | 45
223d Operating Loss Loan for Health Care Facilities | 80
241(a) Supplemental Loans for Health Care Facilities without LIHTC | 57
241(a) Supplemental Loans for Health Care Facilities with LIHTC | 45
FHA Hospitals
242 Hospitals | 50
223(a)(7) Refinance of Existing FHA-insured Hospital | 50
241(a) Supplemental Loans for Hospitals | 50
*The First Year MIP for the section 207/223(f) loans for apartments is one percent for the first year, as specified in sections 24 CFR 207.232b(a). The first year MIP for a 232/223(f) health care facility remains at 100 basis points.

Dated: September 15, 2008.
Brian D. Montgomery,
Assistant Secretary for Housing—Federal Housing Commissioner.

[FR Doc. E8-22333 Filed 9-23-08; 8:45 am]

BILLING CODE 4210-67-P